DEPARTMENT OF TRANSPORTATION

Federal Aviation Administration

RTCA Special Committee 200/EUROCAE Working Group 60: Modular Avionics, Second Joint Plenary Meeting

AGENCY: Federal Aviation Administration (FAA), DOT.

ACTION: Notice of RTCA Special Committee 200/EUROCAE Working Group 60 meeting.

SUMMARY: The FAA is issuing this notice to advise the public of a meeting of RTCA Special Committee 200/EUROCAE Working Group 60: Modular Avionics.

DATES: The meeting will be held August 31-September 2, 2005 starting at 9 a.m.

ADDRESSES: The meeting will be held at Civil Aviation Authority Aviation House, Gatwick Airport South, West Sussex, UK RH6 0YR

FOR FURTHER INFORMATION CONTACT: (1) RTCA Secretariat, 1828 L Street, NW, Suite 805, Washington, DC, 20036; telephone (202) 833-9339; fax (202) 833-9434; Web site http://www.rtca.org; (2) Chris Duff-Cole; telephone +44 (0) 1293 56171; e-mail chris.duff-cole@srg.caa.co.uk.

SUPPLEMENTARY INFORMATION: Pursuant to section 10(a)(2) of the Federal Advisory Committee Act (P.L. 92-463, 5 U.S.C., Appendix 2), notice is hereby given for a Special Committee 200/EUROCAE Working Group 60 meeting. The agenda will include:

• August 31:

• Opening Plenary Session (Welcome and Introductory Remarks, Review/Accept Agenda, Review/Approve previous minutes of 12th plenary session, Review Open Action Items

• Brief Reports on Related Committees (ARINC653, WG63)

• Review of Outstanding Comments on draft Integrated Modular Avionics (IMA) Development Guidance and Certification Considerations document

• September 1:

• Plenary Session: Continue Review of Outstanding Comments

• June 24:

• Plenary approval of the (IMA) documents

• Closing Plenary Session (Complete resolution of FRAC comments, approve and forward FRAC document for approval, Review Action Items, Date and Place of Next Meeting, Adjourn)

Attendance is open to the interested public but limited to space availability. With the approval of the chairmen, members of the public may present oral statements at the meeting. Persons wishing to present or obtain information should contact the person listed in the FOR FURTHER INFORMATION CONTACT section. Members of the public may present a written statement to the committee at any time.

Issued in Washington, DC, on July 27, 2005.
Natalie Ogletree,
FAA General Engineer, RTCA Advisory Committee.

[FR Doc. 05-15858 Filed 8-10-05; 8:45 am]

BILLING CODE 4910-13-M